DEPARTMENT OF THE INTERIOR

Fish and Wildlife Service

50 CFR Part 15

RIN 1018-AH89

Importation of Exotic Wild Birds into the United States; Notice of Reopening of Comment Period on Proposed Rule to Add Blue-Fronted Amazon Parrots from Argentina's Sustainable-Use Management Plan to the Approved List of Non-Captive-Bred Species Under the Wild Bird Conservation Act

AGENCY: Fish and Wildlife Service, Interior.

ACTION: Proposed rule; notice of reopening of comment period.

SUMMARY: We, the Fish and Wildlife Service (Service), give notice that we are reopening the comment period for the proposed rule to add blue-fronted amazon parrots (Amazona aestiva) from Argentina's sustainable-use management plan to the approved list of non-captive-bred (wild-caught) species under the Wild Bird Conservation Act of 1992 (WBCA). We are reopening the public comment period to allow all interested parties time to comment on Dr. Jorge Rabinovich's study, “Modeling the Sustainable Use of the Blue-Fronted Parrot (Amazona aestiva) in the Dry Chaco Region of Argentina.” The proposed rule was published and the public comment period initially opened on August 6, 2003 (68 FR 46559). We reopened the public comment period on March 29, 2005 (70 FR 15798) in order to accept comments related to Dr. Rabinovich's study, and we are now reopening it for an additional 45 days.

DATES: Comments must be submitted directly to the Service (see ADDRESSES section) on or before July 8, 2005. Any comments received after the closing date may not be considered in the final determination on the proposal.

ADDRESSES: If you wish to comment, you may submit your comments and materials by any one of several methods:

1. You may submit written comments and information to Dr. Peter O. Thomas, Chief, Division of Management Authority, U.S. Fish and Wildlife Service, 4401 North Fairfax Drive, Room 700, Arlington, Virginia 22203.

2. You may hand-deliver written comments and information to the Division of Management Authority, at the above address, or fax your comments to (703) 358-2298.

3. You may send your comments by electronic mail (e-mail) to bluefront@fws.gov. Please submit e-mail comments as an ASCII file, avoiding the use of special characters and any form of encryption. Please also include “Attention: [blue-fronted amazon]” and your name and return address in your message. Please note that the e-mail address, bluefront@fws.gov, will be closed out at the end of the public comment period.

4. We request that you not submit duplicate comments by multiple means. See SUPPLEMENTARY INFORMATION for comment procedures.

To obtain a copy of the aforementioned study, you can download or print it from http://www.fws.gov/international/ or contact Anne St. John at (703) 358-2095 (phone) or (703) 358-2298 (facsimile) to receive a faxed or mailed copy.

FOR FURTHER INFORMATION CONTACT: Dr. Peter O. Thomas, Chief, Division of Management Authority, U.S. Fish and Wildlife Service; telephone (703) 358-2093; fax (703) 358-2280.

SUPPLEMENTARY INFORMATION:

Background

The WBCA limits or prohibits import into the United States of exotic bird species to ensure that their wild populations are not harmed by international trade. It also encourages wild bird conservation programs in countries of origin by ensuring that all imports of such species are biologically sustainable and not detrimental to the survival of the species. On November 16, 1993, we published a final rule in the Federal Register (58 FR 60536) in which we informed the public that imports of all CITES-listed birds (as defined in the final rule) were prohibited, except for (a) species included in an approved list; (b) specimens for which an import permit has been issued; (c) species from countries that have approved sustainable-use management plans for those species; or (d) specimens from approved foreign captive-breeding facilities.

On August 6, 2003, we published in the Federal Register (68 FR 46559) a rule proposing to approve a sustainable-use management plan developed by the CITES Management Authority of Argentina for blue-fronted amazon parrots under the WBCA. The rule proposed to add blue-fronted amazon parrots from Argentina's program to the approved list of non-captive-bred (wild-caught) species contained in 50 CFR 15.33(b). The public comment period on that proposed rule was open for 60 days, and in our final rule, we will address the comments we received. On March 29, 2005 (70 FR 15798), we reopened the comment period to enter into the record, Dr. Jorge Rabinovich's 2004 study, “Modeling the Sustainable Use of the Blue-Fronted Parrot (Amazona aestiva) in the Dry Chaco Region of Argentina,” and any comments we receive regarding the relationship of this study to the proposed addition of blue-fronted amazon parrots from Argentina's program to the approved list of non-captive-bred (wild-caught) species under the WBCA.

Public Comments Solicited

We request comments or suggestions from the public, other concerned governmental agencies, the scientific community, industry, or any other interested party concerning this study and its relationship to the proposed rule. In making a final decision, we will take into consideration the comments we received and their relationship to the proposed action. Such communications may lead to a final determination that differs from the proposed rule.

The initial comment period on this proposed rule closed on October 6, 2003. In response to the receipt of Rabinovich's 2004 study, on March 29, 2005 (70 FR 15798), we reopened the public comment period on our proposed rule for 30 days, until April 28, 2005. To date, we have not yet made a final decision regarding the approval of Argentina's sustainable-use management plan for blue-fronted amazon parrots. To allow all interested parties time to submit their comments on this report for the record, we are reopening comment period for an additional 45 days.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. Comments and materials received will be available for public inspection, by appointment, during normal business hours at the Division of Management Authority (see ADDRESSES section).

References Cited

Rabinovich, Jorge. 2004. Unpublished report. Centro de Estudios Parasitológicos y de Vectores (CEPAVE), Universidad Nacional de La Plata, La Plata, Prov. de Buenos Aires, Argentina. 147 pp. with figures.

Author

The primary author of this notice is Anne St. John (see ADDRESSES section).

Authority

The authority for this action is the Wild Bird Conservation Act of 1992 (Pub. L. 102-440, 16 U.S.C. 4901-4916.).

Dated: May 12, 2005.
Paul Hoffman,
Acting Assistant Secretary—+Fish and Wildlife and Parks.

[FR Doc. 05-10253 Filed 5-23-05; 8:45 am]

BILLING CODE 4310-55-P